DEPARTMENT OF ENERGY

Federal Energy Regulatory Commission

Combined Notice of Filings

Take notice that the Commission has received the following Natural Gas Pipeline Rate and Refund Report filings:

Docket Numbers: CP20-24-000.

Applicants: Sabine Pipe Line.

Description: Joint Application for Certificate of Public Convenience and Necessary for Application/Petition Request/Certificate of Public Convenience and Necessary.

Filed Date: 12/11/2019.

Accession Number: 20191211-5125.

Comments Due: 5 p.m. ET 1/2/20.

Docket Numbers: CP20-25-000.

Applicants: Bridgeline Holdings.

Description: Sabine Pipe Line LLC and for a Limited Jurisdiction Certificate of Bridgeline Holdings L/P under CP20-24.

Filed Date: 12/11/2019.

Accession Number: 20191211-5125.

Comments Due: 5 p.m. ET 1/2/20.

Docket Numbers: RP19-1353-003.

Applicants: Northern Natural Gas Company.

Description: Compliance filing 20191218 Motion Adjusted Base Case Rates to be effective 1/1/2020.

Filed Date: 12/18/19.

Accession Number: 20191218-5032.

Comments Due: 5 p.m. ET 12/30/19.

Docket Numbers: RP19-1353-004.

Applicants: Northern Natural Gas Company.

Description: Compliance filing 20191218 Interim Rates to be effective 1/1/2020.

Filed Date: 12/18/19.

Accession Number: 20191218-5138.

Comments Due: 5 p.m. ET 12/30/19.

Docket Numbers: RP20-338-000.

Applicants: Midcontinent Express Pipeline LLC.

Description: § 4(d) Rate Filing: Removal of Expiring Chesapeake and Total Agreements to be effective 2/1/2020.

Filed Date: 12/18/19.

Accession Number: 20191218-5004.

Comments Due: 5 p.m. ET 12/30/19.

Docket Numbers: RP20-339-000.

Applicants: Gulf South Pipeline Company, LP.

Description: § 4(d) Rate Filing: Changes to Rate Schedule NNS-A to be effective 1/18/2020.

Filed Date: 12/18/19.

Accession Number: 20191218-5007.

Comments Due: 5 p.m. ET 12/30/19.

Docket Numbers: RP20-340-000.

Applicants: Rockies Express Pipeline LLC.

Description: § 4(d) Rate Filing: Neg Rate 2019-12-18 Amend DTE E2W to be effective 12/19/2019.

Filed Date: 12/18/19.

Accession Number: 20191218-5117.

Comments Due: 5 p.m. ET 12/30/19.

Docket Numbers: RP20-341-000.

Applicants: El Paso Natural Gas Company, L.L.C.

Description: § 4(d) Rate Filing: Negotiated Rate Agreement Update (Salt Creek) to be effective 1/1/2020.

Filed Date: 12/18/19.

Accession Number: 20191218-5140.

Comments Due: 5 p.m. ET 12/30/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 19, 2019.
Nathaniel J. Davis, Sr.,
Deputy Secretary.

[FR Doc. 2019-27919 Filed 12-26-19; 8:45 am]

BILLING CODE 6717-01-P